DEPARTMENT OF AGRICULTURE

Animal and Plant Health Inspection Service

[Docket No. 01-013-3]

Protection of Sunflowers From Red-Winged Blackbird Damage in North Dakota and South Dakota; Request for Public Involvement

AGENCY: Animal and Plant Health Inspection Service, USDA.

ACTION: Notice of availability of scoping document.

SUMMARY: We are advising the public that the Animal and Plant Health Inspection Service's Wildlife Services program has developed a scoping document for an environmental impact statement being prepared to analyze the potential environmental effects of reducing blackbird damage to ripening sunflowers in North Dakota and South Dakota. This scoping document addresses the comments received and issues raised in response to our March 2001 and May 2001 notices on this subject. The information received in response to this notice, as well as the information received previously, will be considered during development of an environmental impact statement prepared in accordance with the National Environmental Policy Act.

DATES: We invite you to comment on the scoping document. We will consider all comments we receive that are postmarked, delivered, or e-mailed by January 7, 2002.

ADDRESSES: You may submit comments by postal mail/commercial delivery or by e-mail. If you use postal mail/commercial delivery, please send four copies of your comment (an original and three copies) to: Docket No. 01-013-3, Regulatory Analysis and Development, PPD, APHIS, Station 3C71, 4700 River Road Unit 118, Riverdale, MD 20737-1238. Please state that your comment refers to Docket No. 01-013-3. If you use e-mail, address your comment to regulations@aphis.usda.gov. Your comment must be contained in the body of your message; do not send attached files. Please include your name and address in your message and “Docket No. 01-013-3” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Phil Mastrangelo, State Director, Wildlife Services, APHIS, USDA, 2110 Miriam Circle, Suite A, Bismarck, ND 58501-2502; phone (701) 250-4405.

SUPPLEMENTARY INFORMATION: Wildlife Services (WS) of the Animal and Plant Health Inspection Service (APHIS) provides technical and operational assistance to entities who request assistance to reduce damage caused by wildlife, in this case to sunflower producers. WS loans damage abatement equipment (e.g., propane cannons, pyrotechnics), conducts training workshops, provides informational leaflets on damage management and sources of damage abatement tools, and, in the case of blackbird damage to sunflowers, conducts roost management programs to disperse blackbirds from sunflower production areas.

In 2000, approximately 81 percent of the sunflower production in the United States occurred in North Dakota and South Dakota. In North Dakota, the acreage of sunflower increased from 12,500 acres in 1962 to 1.3 million acres in 2000, with a commercial value of $125 million. In South Dakota, sunflower acreage increased from 132,000 acres in 1977 to 719,000 acres in 2000, with a commercial value of $63 million. However, increased production of sunflowers has been hampered by damage associated with blackbirds feeding on the ripening crop.

Damage surveys conducted in sunflower production areas in North Dakota and South Dakota indicate that overall loss is generally 1 to 2 percent of the crop. If all producers received less than 2 percent damage, there would be little concern for damage caused by blackbirds. However, damage is not equally distributed, can be severe for some producers, and is fairly consistent from year-to-year within a locality. Research has been conducted throughout the northern Great Plains to estimate the amount of damage birds have caused to ripening sunflower crops. Historically, sunflower damage surveys have estimated blackbird damage to range from $4-7 million annually in North Dakota and South Dakota.

Sunflower growers and Government agencies have used both lethal and nonlethal techniques to reduce red-winged blackbird damage to ripening sunflowers. The goal of nonlethal methods is to decrease the availability or attractiveness of the crop to blackbirds or to disperse the birds so that damage is not concentrated in any given area. Examples of nonlethal methods include altering farming practices, using audio and visual frightening devices, growing bird-resistant sunflowers, increasing weed control in fields, and growing decoy crops. Additionally, research has shown that opening dense cattail stands, which are traditional roost sites for blackbirds, aids in dispersing blackbirds from nearby sunflower crops. To date, nonlethal blackbird damage management initiatives have been somewhat effective in reducing blackbird damage to unharvested sunflowers, but have not alleviated the problem for all sunflower growers.

Scoping Document

The scoping document made available by this notice explains why WS is preparing an environmental impact statement (EIS) to analyze the potential environmental effects of reducing blackbird damage to ripening sunflowers in North Dakota and South Dakota. This scoping document describes and defines the blackbird damage problem to sunflower crops grown in North Dakota and South Dakota. The goal of the WS blackbird damage management program—to reduce the level of blackbird damage to sunflower crops in North Dakota and South Dakota to no more than 5 percent in individual sunflower fields—is also explained.

Included in the scoping document is a summary of the WS role in managing blackbird damage. This includes past research efforts by WS' National Wildlife Research Center (NWRC), an overview of proposed future research, and a summary of WS operational programs. Information regarding State and academic programs, and the efforts of sunflower producers for reducing blackbird damage, is also provided. The scoping document details the Federal and State laws that are applicable to the reduction of blackbird damage.

Based on WS' experience and comments received in response to our previous notices on the subject, which were published in the Federal Register on March 22, 2001 (66 FR 16028-16031, Docket No. 01-013-1), and May 21, 2001 (66 FR 27933-27934, Docket No. 01-013-2), WS proposes to analyze three alternatives for detailed evaluation in the EIS:

(1) Continue the Current Operational Wildlife Services Program of Technical Assistance and Cattail Management in North Dakota and South Dakota, and Associated Research (No Action Alternative). Under this alternative, WS' professional wildlife biologists would continue to respond to requests for assistance with blackbird damage to sunflower crops, using all the lethal and non-lethal techniques currently available. WS would continue to provide technical assistance to sunflower producers. The cattail management program would continue at its current level (70 percent maximum treatment per wetland, up to 6,000 acres annually). Current and future NWRC research activities regarding blackbird damage management to sunflower crops and associated blackbird biology would continue.

(2) Integrated Adaptive Management Program. Under this alternative, WS' professional wildlife biologists would continue to use, as appropriate, all available damage management techniques for reducing blackbird damage to sunflower crops. This could include chemical repellents and frightening devices. WS would continue to provide technical assistance to sunflower producers.

Cattail management would continue under this alternative. However, treatment of cattail wetlands would increase to 8,000 acres annually from the current level of 6,000 acres.

The WS operational program could also include spring baiting using the avian toxicant DRC-1339. Spring baiting with DRC-1339-treated rice could be conducted for 5 years beginning at the end of March and continuing through the third week of April each year. Up to 25 bait plots of 2 acres each would be treated in east-central South Dakota (possible counties include Brookings, Clark, Codington, Deuel, Hamlin, Kingsbury, Lake, Miner, and Moody Counties). Bait plots would be established near blackbird staging areas in harvested grain fields. Spring baiting is intended to reduce the population of red-winged blackbirds by up to 2 million each year to reduce fall damage to sunflowers. North Dakota State University researchers determined likely blackbird baiting sites based on studies of habitat preferences of spring migratory blackbirds.

Under this alternative, extensive program monitoring would be conducted by WS personnel, in cooperation with the NWRC and North Dakota State University, to determine the effectiveness of DRC-1339 spring baiting and cattail management to reduce sunflower damage. WS biologists would also evaluate and monitor the effects on populations of blackbirds and non-target species. Monitoring would include blackbird population surveys, sunflower damage assessments, and the study of habitat variables, migration timing and patterns, and related climate variations within selected plots in sunflower production areas. If monitoring results indicate that spring baiting does not reduce sunflower damage, the spring baiting program would be terminated.

(3) Implement State, Private, and Sunflower Producer Damage Management Actions, with no Wildlife Services Programs. Under this alternative, WS would not participate in or implement any wildlife damage assessments or programs for reducing blackbird damage to sunflower crops in North Dakota and South Dakota. No technical assistance, research, lethal/non-lethal programs, cattail management, or any other related actions would be provided by WS. Certain functions of the present WS program would most likely be conducted by individual sunflower producers. All requests made to WS for sunflower crop protection would be referred to the North Dakota and South Dakota Departments of Agriculture, other Federal or State agencies, private businesses, or organizations, as appropriate.

The scoping document explains why five suggested alternatives will not be evaluated in detail in the EIS. These include: (1) Create and implement crop damage insurance against blackbird depredation; (2) financial compensation for economic losses to sunflower crops caused by blackbirds; (3) eradicate blackbirds; (4) reintroduce cougars, coyotes, wolves, bobcats, and other predator species to reduce populations of depredating blackbirds in North Dakota and South Dakota; and (5) physical exclusion of blackbirds from sunflower fields with netting or other material.

The scoping document identifies issues proposed for detailed analysis in the EIS. These include: (1) The cumulative impact on populations of target blackbird and non-target species of plants and wildlife, including Federally and State-protected species, from the use of DRC-1339 and glyphosate; (2) effects on biodiversity, including effects of glyphosate on terrestrial and wetland biodiversity, effects on terrestrial biodiversity from reducing populations of blackbirds, including impacts on insect populations, and effects on terrestrial biodiversity from reducing populations of terrestrial non-target plants and animals; (3) degree of humaneness of lethal methods for reducing blackbird populations; (4) cost-effectiveness of Federal actions for reducing economic impacts of blackbird depredation on sunflower crops; (5) potential for and impacts of exotic and nuisance plant species to invade wetlands after treatment with glyphosate; and (6) impacts of non-herbicidal components of glyphosate, such as surfactants, on insect populations.

The scoping document may be obtained from the person listed under FOR FURTHER INFORMATION CONTACT. We ask you to please read the scoping document and let us know, at a minimum:

• What are your concerns regarding the current program and the proposed changes (issues)?

• What are your concerns regarding environmental impacts that you want us to study in the EIS (issues)?

• How does this program affect you and how do you feel about protecting sunflowers from blackbird damage?

• What other ways of reducing damage to sunflower crops in North Dakota and South Dakota (alternatives) do you want us to consider?

• What ways of reducing environmental impacts (mitigation measures) do you want us to consider?

• What way would you prefer that we reduce blackbird damage to sunflower crops (preferred alternative)?

• What methods would you like us to use to evaluate environmental impacts?

Preparation of the EIS

Following completion of the scoping process, we will prepare a draft EIS for the program to protect sunflowers from blackbird damage. A notice announcing that the draft EIS is available for review will then be published in the Federal Register. The notice will also request comments concerning the draft EIS.

Done in Washington, DC, this 30th day of November, 2001.
W. Ron DeHaven,
Acting Administrator, Animal and Plant Health Inspection Service.

[FR Doc. 01-30258 Filed 12-5-01; 8:45 am]

BILLING CODE 3410-34-U